ENVIRONMENTAL PROTECTION AGENCY

[FRL OP-OFA-038]

Environmental Impact Statements; Notice of Availability

Responsible Agency: Office of Federal Activities, General Information 202-564-5632 or https://www.epa.gov/nepa.

Weekly receipt of Environmental Impact Statements (EIS), Filed September 26, 2022 10 a.m. EST Through October 3, 2022 10 a.m. EST, Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220140, Draft, NRC, TN, Construction Permit for the Kairos Hermes Test Reactor, Comment Period Ends: 12/06/2022, Contact: Tamsen Dozier 301-415-2272.

EIS No. 20220141, Draft, USCG, WA, Expansion and Modernization of Base Seattle, Comment Period Ends: 12/02/2022, Contact: Dean Amundson 510-637-5541.

EIS No. 20220142, Draft, FERC, PA, Ohio Valley Connector Expansion Project, Comment Period Ends: 11/21/2022, Contact: Office of External Affairs 866-208-3372.

EIS No. 20220143, Draft, USACE, NY, Draft Integrated Feasibility Report and Tier 1 Environmental Impact Statement, New York-New Jersey Harbor and Tributaries Coastal Storm Risk Management Feasibility Study, Comment Period Ends: 01/06/2023, Contact: Cheryl Alkemeyer 917-790-8723.

EIS No. 20220144, Draft Supplement, BOEM, Other, Gulf of Mexico OCS Oil and Gas Lease Sales 259 and 261: Draft Supplemental Environmental Impact Statement, Comment Period Ends: 11/21/2022, Contact: Helen Rucker 504-736-2421.

Dated: October 4, 2022.
Cindy S. Barger,
Director, NEPA Compliance Division, Office of Federal Activities.

[FR Doc. 2022-21880 Filed 10-6-22; 8:45 am]

BILLING CODE 6560-50-P